NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Andrew Titmus, ACA Permit Officer, Office of Polar Programs, National Science Foundation, 2415 Eisenhower Avenue, Alexandria, VA 22314; 603-292-4479; email: ACApermits@nsf.gov.

SUPPLEMENTARY INFORMATION: On May 26, 2022, the National Science Foundation published a notice in the Federal Register of permit application received. The permit was issued on the following date:

1. Birgitte McDonald, Permit No. 2023-003, July 25, 2022

On June 24, 2022, the National Science Foundation published a notice in the Federal Register of permit application received. The permit was issued on the following date:

1. Steve Emslie, Permit No. 2023-004, July 26, 2022

Erika N. Davis,
Program Specialist, Office of Polar Programs.

[FR Doc. 2022-16574 Filed 8-2-22; 8:45 am]

BILLING CODE 7555-01-P